DEPARTMENT OF LABOR

Employment and Training Administration

[TA-W-60,578]

Loud Technologies, Inc. Including On-Site Temporary Workers of Microtech/KPB Staffing, Whitinsville, MA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on February 22, 2007, applicable to workers of Loud Technologies, Inc., Whitinsville, Massachusetts. The notice was published in the Federal Register on March 8, 2007 (72 FR 10561).

At the request of the State agency, the Department reviewed the certification for workers of the subject firm. The workers were engaged in the production of wood speaker cabinets and speakers.

New information provided by the State agency representative shows that some of the former employees of the subject firm were converted to a temporary staffing agency, MicroTech/KPB Staffing, and continued employment on-site at the Whitinsville, Massachusetts location of Loud Technologies, Inc.

Based on this new information, the Department is amending the certification to include temporary workers of MicroTech/KPB Staffing working on-site at the Whitinsville, Massachusetts location of the subject firm.

The intent of the Department's certification is to include all workers at Loud Technologies, Inc., Whitinsville, Massachusetts, who were adversely affected by a likely increase in imports following a shift in production to China.

The amended notice applicable to TA-W-60,578 is hereby issued as follows:

All workers of Loud Technologies, Inc., including on-site temporary workers of MicroTech/KPB Staffing, Whitinsville, Massachusetts, who became totally or partially separated from employment on or after December 11, 2005, through February 22, 2009, are eligible to apply for adjustment assistance under Section 223 of the Trade Act of 1974, and are also eligible to apply for alternative trade adjustment assistance under Section 246 of the Trade Act of 1974.

Signed at Washington, DC this 6th day of August 2007.
Linda G. Poole,
Certifying Officer, Division of Trade Adjustment Assistance.

[FR Doc. E7-15850 Filed 8-13-07; 8:45 am]

BILLING CODE 4510-FN-P